DEPARTMENT OF LABOR

Employment and Training Administration

[TA-W-40,084]

Mettler Toledo Process Analytical, Inc., Woburn, MA; Notice of Termination of Investigation

Pursuant to section 221 of the Trade Act of 1974, an investigation was initiated on September 24, 2001 in response to a worker petition, which was filed on behalf of workers at Metter Toledo Process Analytical, Inc., Woburn, Massachusetts.

The petitioner has requested that the petition be withdrawn. Consequently, further investigation in this case would serve no purpose, and the investigation has been terminated.

Signed in Washington, DC this 9th day of November 2001.
Linda G. Poole,
Certifying Officer, Division of Trade Adjustment Assistance.

[FR Doc. 01-28975 Filed 11-19-01; 8:45 am]

BILLING CODE 4510-30-M